DEPARTMENT OF COMMERCE

International Trade Administration

[A-357-812]

Honey From Argentina: Rescission of Antidumping Duty New Shipper Review

AGENCY: Import Administration, International Trade Administration, Department of Commerce.

ACTION: Notice of rescission of antidumping duty new shipper review.

SUMMARY: On February 6, 2003, the Department published the initiation of a new shipper review of the antidumping duty order of honey from Argentina covering the period of May 11, 2001 to November 30, 2002. See Honey From Argentina: Initiation of New Shipper Antidumping Duty Administrative Review, 68 FR 6114 (February 6, 2003) (New Shipper Initiation). This review covers one exporter, Nutrin S.A. (Nutrin) of Argentina. For the reasons discussed below, we are rescinding this new shipper review in its entirety.

EFFECTIVE DATE: October 9, 2003.

FOR FURTHER INFORMATION CONTACT: Angela Strom or Donna Kinsella at (202) 482-2704 and (202) 482-0194, respectively; AD/CVD Enforcement, Office 8, Group III, Import Administration, International Trade Administration, U.S. Department of Commerce, 14th Street and Constitution Avenue, NW., Washington, DC 20230.

SUPPLEMENTARY INFORMATION:

Scope of the Review

The merchandise under review is honey from Argentina. For purposes of this review, the products covered are natural honey, artificial honey containing more than 50 percent natural honey by weight, preparations of natural honey containing more than 50 percent natural honey by weight, and flavored honey. The subject merchandise includes all grades and colors of honey whether in liquid, creamed, comb, cut comb, or chunk form, and whether packaged for retail or in bulk form.

The merchandise under review is currently classifiable under subheadings 0409.00.00, 1702.90.90, and 2106.90.99 of the Harmonized Tariff Schedule of the United States (HTSUS). Although the HTSUS subheadings are provided for convenience and U.S. Bureau of Customs and Border Protection purposes, the Department's written description of the merchandise under this order is dispositive.

Background

On February 6, 2003, the Department published the initiation of a new shipper review of the antidumping duty order of honey from Argentina. This review involves one exporter, Nutrin S.A. of Argentina, and covers the period of May 11, 2001 through November 30, 2002. See New Shipper Initiation. On July 14, 2003, the Department extended the time limit for the completion of the preliminary results of this new shipper review until November 28, 2003. See Honey From Argentina: Extension of Time Limit for Preliminary Results of New Shipper Review 68 FR 41557 (July 14, 2003).

On February 19, 2003, the Department issued Sections A through C of the Department's antidumping questionnaire to Nutrin. Nutrin responded on March 14, 2003 and April 7, 2003. Petitioners submitted comments on Nutrin's questionnaire responses on April 4, 2003 and May 2, 2003. On May 23, 2003, the Department issued its first supplemental questionnaire, and Nutrin submitted its supplemental questionnaire response on June 13, 2003. Petitioners again commented on Nutrin's responses on July 1, 2003, and August 4, 2003.

Analysis of New Shipper Review

On August 15, 2003, the Department issued a memorandum detailing our analysis of the bona fides of Nutrin's U.S. sale and our intent to rescind this review because we preliminarily determined that Nutrin's U.S. sale was not a bona fide transaction based on the totality of the circumstances of the sale. See Memorandum from Angela Strom through Richard Weible to Barbara E. Tillman: New Shipper Review of the Antidumping Duty Order on Honey from Argentina: Intent to Rescind, dated August 21, 2003 (Nutrin Intent to Rescind Memo). In this memorandum, the Department preliminarily determined that the single U.S. sale made by Nutrin was not bona fide due to (1) the conflicting information contained in different copies of the sales invoice for Nutrin's U.S. sale; (2) Nutrin's failure to disclose other apparent changes in the terms of the U.S. sale; (3) conflicting information and insufficient documentation regarding the date on which the essential terms of sale and final destination of goods were established; (4) inconsistent invoicing practices regarding the U.S. sale and other like sales; (5) atypical payment terms and (6) highly unusual sales and shipping arrangements. The totality of the facts on the record lead the Department to conclude that the sale was neither commercially reasonable nor bona fide.

Comments

The Department provided parties an opportunity to comment on the Intent to Rescind Memo dated August 21, 2003. The initial deadline for comments for all parties was August 29, 2003; however, Nutrin requested a seven day extension of time to file its comments. The Department granted the extension and set an extended due date of September 5, 2003. On September 5, 2003, Nutrin requested yet another extension of time; however, the Department denied this additional request given its statutory and regulatory time constraints in completing this review. Nutrin did not submit comments regarding the Department's Intent to Rescind even though it had two weeks to do so. Petitioners submitted comments supporting the Department's position to rescind the new shipper review with respect to Nutrin.

Rescission of New Shipper Reviews

We received no comments rebutting or in disaccord with the Department's findings in its Intent to Rescind Memo regarding Nutrin. Therefore, for the reasons stated above and pursuant to section 751(a)(2)(B) and 19 CFR 351.214(f), we are rescinding this new shipper review.

Notification

The Department will notify the U.S. Bureau of Customs and Border Protection that bonding is no longer permitted to fulfill security requirements for shipments of Argentine honey by Nutrin entered, or withdrawn from warehouse, for consumption in the United States on or after the publication of this rescission notice in the Federal Register, and that a cash deposit of 30.24 percent ad valorem should be collected for any entries exported by Nutrin.

We are issuing and publishing this determination and notice in accordance with sections 751(a)(2)(B) and 777(i) of the Act.

Dated: October 2, 2003.
James J. Jochum,
Assistant Secretary for Import Administration.

[FR Doc. 03-25627 Filed 10-8-03; 8:45 am]

BILLING CODE 3510-DS-P